DEPARTMENT OF HOMELAND SECURITY

Federal Emergency Management Agency

[Docket ID: FEMA-2007-0008]

National Advisory Council Teleconference Meeting

AGENCY: Federal Emergency Management Agency, DHS.

ACTION: Notice of teleconference meeting.

SUMMARY: The National Advisory Council (NAC) will be holding a teleconference meeting for the purpose of discussing and gathering feedback on the National Disaster Housing Task Force's Practitioners' Guide to Disaster Housing.

DATES: Meeting Date: Thursday, December 16, 2010 from approximately 2 p.m. EST to 4 p.m. EST.

Comment Date: Written comments must be received by Thursday, December 9, 2010.

ADDRESSES: The meeting will be held via teleconference only. Members of the public who wish to obtain the listen-only call-in number, access code, and other information for the public teleconference may contact Alyson Price as listed in the FOR FURTHER INFORMATION CONTACT section by Thursday, December 9, 2010. All written comments must be received by Thursday, December 9, 2010. All submissions received must include the Docket ID FEMA-2007-0008 and may be submitted by any one of the following methods:

Federal Rulemaking Portal: http://www.regulations.gov. Follow the instructions for submitting comments on the Web site.

E-mail: FEMA-RULES@dhs.gov. Include Docket ID FEMA-2007-0008 in the subject line of the message.

Facsimile: (703) 483-2999.

Mail: FEMA, Office of Chief Counsel, 500 C Street, SW., Room 840, Washington, DC 20472-3100.

Hand Delivery/Courier: FEMA, Office of Chief Counsel, 500 C Street, SW., Room 840, Washington, DC 20472-3100.

Instructions: All submissions received must include the Docket ID: FEMA-2007-0008. Comments received will also be posted without alteration at http://www.regulations.gov, including any personal information provided. You may want to read the Privacy Act Notice, which is found via the Privacy Notice link in the footer of http://www.regulations.gov.

Docket: For access to the docket to read documents or comments received by the National Advisory Council, go to http://www.regulations.gov.

FOR FURTHER INFORMATION CONTACT: Alyson Price, Designated Federal Officer, FEMA, 500 C Street, SW., Room 832, Washington, DC 20472-3100, telephone 202-646-3746, fax 202-646-3930, and e-mail FEMA-NAC@dhs.gov. The NAC Web site is located at: http://www.fema.gov/about/nac/.

SUPPLEMENTARY INFORMATION: Notice of this meeting is required under the Federal Advisory Committee Act (FACA), Public Law 92-463, as amended (5 U.S.C. App. 1, et seq.).

The National Disaster Housing Task Force (NDHTF) provides a full-time, multi-agency focus on disaster housing related issues and seeks to elevate the significance of disaster housing preparedness in all jurisdictions. FEMA will conduct a public teleconference with the National Advisory Council (NAC) to brief them and gather feedback on the NDHTF Practitioners' Guide to Disaster Housing (Practitioners' Guide) document currently under development by the NDHTF.

The Practitioners' Guide will provide guidance for State, Tribal, territory, and local disaster housing assistance practitioners to develop disaster housing strategies that improve responsiveness. It emphasizes the cooperative efforts required to provide disaster housing assistance by encouraging the involvement of private sector and non-governmental agencies.

The meeting is open to the public. Persons with disabilities who require special assistance should advise the Designated Federal Officer of their anticipated special needs as early as possible. Although members of the public will not be allowed to comment orally during the meeting, they may file a written statement with the NAC before the date of the meeting. For those wishing to submit written comments, please follow the procedure described in the ADDRESSES section.

Dated: November 22, 2010.
W. Craig Fugate,
Administrator, Federal Emergency Management Agency.

[FR Doc. 2010-29908 Filed 11-26-10; 8:45 am]

BILLING CODE 9111-48-P